DEPARTMENT OF TRANSPORTATION

Federal Aviation Administration

14 CFR Part 39

[Docket No. 2002-NM-261-AD; Amendment 39-13610; AD 2004-09-21]

RIN 2120-AA64

Airworthiness Directives; Saab Model SAAB 2000 Series Airplanes

AGENCY: Federal Aviation Administration, DOT.

ACTION: Final rule.

SUMMARY: This amendment adopts a new airworthiness directive (AD), applicable to certain Saab Model SAAB 2000 series airplanes, that requires repetitive inspections of the installation of the spoilers of the windshield wiper assemblies for discrepancies, and replacement with new spoilers if necessary. This amendment also requires eventual replacement of the spoilers of the windshield wiper assemblies with new spoilers. This action is necessary to prevent failure of the windshield wiper assembly, which could result in loss of visibility, damage to the propeller(s) and/or engine(s), or penetration of the fuselage skin and consequent rapid depressurization of the airplane. This action is intended to address the identified unsafe condition.

DATES: Effective June 15, 2004.

The incorporation by reference of certain publications listed in the regulations is approved by the Director of the Federal Register as of June 15, 2004.

ADDRESSES: The service information referenced in this AD may be obtained from Saab Aircraft AB, SAAB Aircraft Product Support, S-581.88, Linkoäping, Sweden. This information may be examined at the Federal Aviation Administration (FAA), Transport Airplane Directorate, Rules Docket, 1601 Lind Avenue, SW., Renton, Washington; or at the National Archives an Records Administration (NARA). For information one the availibility of this material at NARA, call 202-741-6030, or go to: http://www.archives.gov/federal_register/code_of_federal_regulations/ibr_locations.html.

FOR FURTHER INFORMATION CONTACT: Rosanne Ryburn, Aerospace Engineer, International Branch, ANM-116, Transport Airplane Directorate, 1601 Lind Avenue, SW., Renton, Washington 98055-4056; telephone (425) 227-2139; fax (425) 227-1149.

SUPPLEMENTARY INFORMATION: A proposal to amend part 39 of the Federal Aviation Regulations (14 CFR part 39) to include an airworthiness directive (AD) that is applicable to certain Saab Model SAAB 2000 series airplanes was published in the Federal Register on January 22, 2004 (69 FR 3043). That action proposed to require repetitive inspections of the installation of the spoilers of the windshield wiper assemblies for discrepancies, and replacement with new spoilers if necessary. That action also proposed to require eventual replacement of the spoilers of the windshield wiper assemblies with new spoilers.

Comments

Interested persons have been afforded an opportunity to participate in the making of this amendment. Due consideration has been given to the one comment received.

The commenter states that the sentence in the “Discussion” section which states, “One report indicated that, after excessive vibration and subsequent separation of a windshield wiper spoiler * * *” is incorrect. The commenter asks that the sentence be changed to correctly state, “One report indicated that, excessive vibration after separation of a windshield wiper spoiler * * *” The FAA agrees with the commenter that the specified sentence was incorrect. However, the “Discussion” section is not restated in this final rule, and, therefore, no change to the final rule is necessary.

Conclusion

After careful review of the available data, including the comment noted above, we have determined that air safety and the public interest require the adoption of the rule as proposed.

Cost Impact

The FAA estimates that 3 airplanes of U.S. registry will be affected by this AD.

It will take about 1 work hour per airplane to do the required inspection, at an average labor rate of $65 per work hour. Based on these figures, the cost impact of the inspection required by this AD on U.S. operators is estimated to be $195, or $65 per airplane, per inspection cycle.

It will take about 6 work hours per airplane to do the required replacement, at an average labor rate of $65 per work hour. Required parts will be free of charge. Based on these figures, the cost impact of the replacement required by this AD on U.S. operators is estimated to be $1,170, or $390 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-09-21 Saab Aircraft AB: Amendment 39-13610. Docket 2002-NM-261-AD.

Applicability: Model SAAB 2000 series airplanes, as listed in Saab Service Bulletin 2000-56-003, dated August 12, 2002, certificated in any category.

Compliance: Required as indicated, unless accomplished previously.

To prevent failure of the windshield wiper assembly, which could result in loss of visibility, damage to the propeller(s) and/or engine(s), or penetration of the fuselage skin and consequent rapid depressurization of the airplane, accomplish the following:

Repetitive Inspections

(a) Within 400 flight hours after the effective date of this AD: Do a detailed inspection for discrepancies (including cracks, loose parts, deformation, general deterioration) of the installation of the spoilers of the windshield wiper assemblies (including doing an operational test), by doing all the actions per the Accomplishment Instructions of Saab Service Bulletin 2000-56-003, dated August 12, 2002.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no discrepancies are found, repeat the inspection thereafter at intervals not to exceed 400 flight hours, until the replacement required by paragraph (b) of this AD is done.

(2) If any discrepancies are found, before further flight, do the replacement required by paragraph (b) of this AD.

Replacement

(b) Except as required by paragraph (a)(2) of this AD: Within 2,000 flight cycles after the effective date of this AD; replace the spoilers of the windshield wiper assemblies (including doing an operational test) by doing all the actions per the Accomplishment Instructions of Saab Service Bulletin 2000-56-002, Revision 01, dated August 12, 2002. Such replacement ends the repetitive inspections required by this AD.

Replacements Done Per Previous Issue of Service Bulletin

(c) Replacements done before the effective date of this AD per Saab Service Bulletin 2000-56-002, dated November 28, 1996, are considered acceptable for compliance with the corresponding action specified in this AD.

Alternative Methods of Compliance

(d) In accordance with 14 CFR 39.19, the Manager, International Branch, ANM-116, Transport Airplane Directorate, FAA, is authorized to approve alternative methods of compliance for this AD.

Incorporation by Reference

(e) Unless otherwise provided in this AD, the actions shall be done in accordance with Saab Service Bulletin 2000-56-002, Revision 01, dated August 12, 2002; and Saab Service Bulletin 2000-56-003, dated August 12, 2002; as applicable. This incorporation by reference was approved by the Director of the Federal Register in accordance with 5 U.S.C. 552(a) and 1 CFR part 51. Copies may be obtained from Saab Aircraft AB, SAAB Aircraft Product Support, S-581.88, Linkoäping, Sweden. Copies may be inspected at the FAA, Transport Airplane Directorate, 1601 Lind Avenue, SW., Renton, Washington; or at the National Archives an Records Administration (NARA). For information on the availibility of this material at NARA, call 202-741-6030, or go to: http://www.archives.gov/federal_register/code_of_federal_regulations/ibr_locations.html.

Note 2: The subject of this AD is addressed in Swedish airworthiness directive 1-178, dated August 15, 2002.

Effective Date

(f) This amendment becomes effective on June 15, 2004.

Issued in Renton, Washington, on April 22, 2004.
Kalene C. Yanamura,
Acting Manager, Transport Airplane Directorate, Aircraft Certification Service.

[FR Doc. 04-10242 Filed 5-10-04; 8:45 am]

BILLING CODE 4910-13-P